FEDERAL COMMUNICATIONS COMMISSION

Notice of Public Information Collection Being Reviewed by the Federal Communications Commission Under Delegated Authority, Comments Requested

November 5, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on January 15, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send then to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1129.

Title: Broadband Speed Test and Unavailability Registry.

Form No.: N/A.

Type of Review: Extension of a currently approved collection.

Respondents: Individuals or households.

Number of Respondents: 7,300 respondents; 7,300 responses.

Estimated Time Per Response: .017 hours.

Frequency of Response: One-time and on occasion reporting requirements and third party disclosure requirement.

Obligation to Respond: Voluntary. Statutory authority is contained in the Broadband Data Improvement Act of 2008, Pub. L. No. 110-385 and the American Reinvestment and Recovery Act of 2009, Pub. L. No. 111-5.

Total Annual Burden: 124 Hours.

Privacy Act Impact Assessment: Yes. The FCC is concerned about the potential risks and effects of collecting, maintaining, and disseminating the personally identifiable information (PII) that is being collected as part of the Broadband Plan and the Broadband Map and their related impact studies and filing processes. The PII that will be collected are the street address of speed test and registry participants. Therefore, the Commission intends to do the following:

1) create a system of records to cover the PII that is being collected as part of these information collection requirements;

2) conduct a Privacy Impact Assessment (PIA) in accordance with OMB Memorandum M-03-22 to examine and evaluate the protections for handling the PII as part of this new information collection; and

3) publish the system of records notice (SORN) in the Federal Register as required by 5 U.S.C. 552a(e).

Nature and Extent of Confidentiality: No personally identifiable information (PII) will be shared outside the FCC. However, the Commission will retain the street address information. As noted in Question 1 of the Supporting Statement, which will be submitted to the OMB, the FCC is committed to protecting the PII that is being collected, stored, maintained, and used as part of the Broadband Plan and the Broadband Map and the related impact studies and filing processes. The FCC intends to create a system of records, to perform a Privacy Act Impact analysis, and to publish the System of Records Notice (SORN) in the Federal Register.

The information collected through the voluntary Registry and speed tests, with the exception of any personally identifiable information, may be shared with public-private partnerships and with the Telecommunications Program of the United States Department of Agriculture (USDA) Rural Development Agency. This sharing regime is described in the Commission's Broadband Data Gathering Order of 2008 (FCC 08-89).

Need and Uses: The purpose of this collection is to enable citizens to voluntarily report the unavailability of broadband service at the household street address level and to test the speed and quality of their broadband service. This collection will provide the Commission with unique data on household availability of broadband and on relative broadband speeds.

The FCC's 2008 Broadband Data Gathering Order instructs the Commission to “design and implement a voluntary system that households may use to report unavailability and speed of broadband Internet access service at their premises.”

The Commission sought emergency OMB approval for this new collection on October 20, 2009. The Commission received OMB approval for the emergency request on October 27, 2009. Emergency approvals are valid for six months only. Therefore, the Commission is seeking an extension of this collection (no change in reporting and/or third party disclosure requirements) in order to obtain the full three year clearance from the OMB.

The Commission will use the information collected to help determine the extent of broadband build-out and availability. The street address level collection will provide the Commission with additional data to help create an accurate National Broadband Map. The speed test and quality of service data will provide the Commission with an additional informational resource to consider that will be relevant to the National Broadband Plan and other proceedings.

Federal Communications Commission.
Marlene H. Dortch,
Secretary,
Office of the Secretary,
Office of Managing Director.

[FR Doc. E9-27369 Filed 11-13-09; 8:45 am]

BILLING CODE 6712-01-S